DEPARTMENT OF ENERGY

Federal Energy Regulatory Commission

Notice of Request for Extension of Time to Complete Project Construction and Soliciting Comments, Motions to Intervene, and Protests

January 17, 2001.

Take notice that the following application has been filed with the Commission and is available for public inspection:

a. Application Type: Request for Extension of Time

b. Project No: 10934-015

c. Date Filed: September 5, 2000

d. Applicant: William B. Ruger, Jr.

e. Name and Location of Project: The Sugar River II Hydroelectric Project is located on the Sugar River in Sullivan County, New Hampshire. The project does not occupy federal or tribal land.

f. Filed Pursuant to: Federal Power Act, Section 13

g. Applicant Contact: Mr. Robert A. Collins, P.O. Box 293, Newport, NH 03773-0293, (603) 863-6332.

h. FERC Contact: Any questions on this notice should be addressed to Heather Campbell at (202) 219-3097 or Pete McGovern at (202) 219-2867.

i. Deadline for filing comments and or motions: February 23, 2001.

All documents (original and eight copies) should be filed with: David P. Boergers, Secretary, Federal Energy Regulatory Commission, 888 First Street, NE, Washington DC 20426. Comments and protests may be filed electronically via the internet in lieu of paper. See, 18 CFR 385.2001(a)(1)(iii) and the instructions on the Commission's web site at http://www.ferc.fed.us/efi/doorbell.htm.

Please include the project number (P-10934-015) on any comments or motions filed.

j. Description of Proposal: The applicant states that high river flows from Hurricane Floyd did not subside to levels suitable for safe construction during the fall 2000 construction season and requests a one-year extension of time to complete construction of the project.

k. Locations of the application: A copy of the application is available for inspection and reproduction at the Commission's Public Reference Room, located at 888 First Street, NE, Room 2A, Washington, DC 20426, or by calling (202) 208-1371. The application may be viewed on the web at www.ferc.fed.us/online/rims.htm (Call (202) 208-2222 for assistance). A copy is also available for inspection and reproduction at the address in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-1923 Filed 1-22-01; 8:45 am]

BILLING CODE 6717-01-M